DEPARTMENT OF HEALTH AND HUMAN SERVICES

Substance Abuse and Mental Health Services Administration

Notice of Subcommittee Meetings for the Interdepartmental Serious Mental Illness Coordinating Committee (ISMICC)

AGENCY: Substance Abuse and Mental Health Services Administration, Department of Health and Human Services.

ACTION: Notice of subcommittee meetings (virtual).

SUMMARY: The Secretary of Health and Human Services (Secretary) announces subcommittee meetings of the Interdepartmental Serious Mental Illness Coordinating Committee (ISMICC). The meetings are open to the public and can be accessed via telephone only. The public can access the meetings in listen-only mode. Call-in information can be accessed at: https://www.samhsa.gov/about-us/advisory-councils/ismicc. The meetings will include information on the following focus areas: Data and Evaluation, Access, Treatment and Recovery, Justice, and Finance.

DATES: Meetings will be held at various intervals during CY 2024 and CY 2025, open.

ADDRESSES: The meetings will be held virtually.

FOR FURTHER INFORMATION CONTACT: Pamela Foote, Substance Abuse and Mental Health Services Administration, 5600 Fishers Lane, Rockville, MD 20857; telephone: 240-276-1279; email: ISMICC@samhsa.hhs.gov.

SUPPLEMENTARY INFORMATION:

Committee Name: Interdepartmental Serious Mental Illness Coordinating Committee (subcommittee meetings).

The ISMICC created five Working Groups to support each of the five focus areas in their 2017 report of recommendations. The Working Groups consist of Federal and Non-federal Members who meet regularly outside of regular ISMICC meetings. Working Groups focus on translating recommendations into action by prioritizing efforts, developing short- and long-term objectives, coordinating programs and policies, identifying existing activities that could be updated or leveraged, and evaluating the feasibility of specific federal initiatives and programs. Working Groups report their findings and offer action-oriented recommendations to the ISMICC. The ISMICC deliberates Working Groups' findings and may vote on recommendations. Appointed federal staff act as Stewards for each of the Working Groups to support their operations and report progress.

I. Background and Authority

The ISMICC was established on March 15, 2017, in accordance with section 6031 of the 21st Century Cures Act, and the Federal Advisory Committee Act, 5 U.S.C. app., as amended, to report to the Secretary, Congress, and any other relevant federal department or agency on advances in serious mental illness (SMI) and serious emotional disturbance (SED), research related to the prevention of, diagnosis of, intervention in, and treatment and recovery of SMIs, SEDs, and advances in access to services and support for adults with SMI or children with SED. In addition, the ISMICC will evaluate the effect federal programs related to serious mental illness have on public health, including public health outcomes such as (A) rates of suicide, suicide attempts, incidence and prevalence of SMIs, SEDs, and substance use disorders, overdose, overdose deaths, emergency hospitalizations, emergency room boarding, preventable emergency room visits, interaction with the criminal justice system, homelessness, and unemployment; (B) increased rates of employment and enrollment in educational and vocational programs; (C) quality of mental and substance use disorders treatment services; or (D) any other criteria as may be determined by the Secretary. Finally, the ISMICC will make specific recommendations for actions that agencies can take to better coordinate the administration of mental health services for adults with SMI or children with SED. Not later than 1 (one) year after the date of enactment of the 21st Century Cures Act, and 5 (five) years after such date of enactment, the ISMICC shall submit a report to Congress and any other relevant federal department or agency.

II. Membership

This ISMICC consists of Federal members listed below or their designees, and Non-federal public members.

Federal Membership: Members include, The Secretary of Health and Human Services; The Assistant Secretary for Mental Health and Substance Use; The Attorney General; The Secretary of the Department of Veterans Affairs; The Secretary of the Department of Defense; The Secretary of the Department of Housing and Urban Development; The Secretary of the Department of Education; The Secretary of the Department of Labor; The Administrator of the Centers for Medicare and Medicaid Services; and The Commissioner of the Social Security Administration.

Non-Federal Membership: Members include, 14 Non-federal public members appointed by the Secretary, representing psychologists, psychiatrists, social workers, peer support specialists, and other providers, patients, family of patients, law enforcement, the judiciary, and leading research, advocacy, or service organizations. The ISMICC is required to meet at least twice per year.

Authority: Public Law 92-463.

Dated: July 23, 2024.
Carlos Castillo,
Committee Management Officer.

[FR Doc. 2024-16640 Filed 7-26-24; 8:45 am]

BILLING CODE 4162-20-P